ENVIRONMENTAL PROTECTION AGENCY

40 CFR Part 52

[EPA-R03-OAR-2011-0286; FRL-9453-9]

Approval and Promulgation of Air Quality Implementation Plans; Pennsylvania; Control of Nitrogen Oxides Emissions From Glass Melting Furnaces

AGENCY: Environmental Protection Agency (EPA).

ACTION: Final rule.

SUMMARY: EPA is approving a State Implementation Plan (SIP) revision submitted by the Commonwealth of Pennsylvania. The SIP revisions pertain to the control of nitrogen oxide (NOX) emissions from glass melting furnaces. EPA is approving these revisions to reduce NOX emissions from glass melting furnaces in accordance with the requirements of the Clean Air Act (CAA).

DATES: Effective Date: This final rule is effective on September 21, 2011.

ADDRESSES: EPA has established a docket for this action under Docket ID Number EPA-R03-OAR-2011-0286. All documents in the docket are listed in the http://www.regulations.gov Web site. Although listed in the electronic docket, some information is not publicly available, i.e., confidential business information (CBI) or other information whose disclosure is restricted by statute. Certain other material, such as copyrighted material, is not placed on the Internet and will be publicly available only in hard copy form. Publicly available docket materials are available either electronically through http://www.regulations.gov or in hard copy for public inspection during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105.

FOR FURTHER INFORMATION CONTACT: Rose Quinto, (215) 814-2182, or by e-mail at quinto.rose@epa.gov.

SUPPLEMENTARY INFORMATION:

I. Background

On June 10, 2011 (76 FR 34021), EPA published a notice of proposed rulemaking (NPR) for the Commonwealth of Pennsylvania. The NPR proposed approval for the control of NOX emissions from glass melting furnaces. The formal SIP revision was submitted by the Pennsylvania Department of the Environmental Protection (PADEP) on July 23, 2010.

II. Summary of SIP Revision

The SIP revision adds definitions and terms to Title 25 of the Pennsylvania Code (25 Pa. Code) Chapter 121.1, relating to definitions, used in the substantive provision of this SIP revision. In addition, the SIP revision adds a new regulation pertaining to the NOX emission standards in 25 Pa. Code Chapter 129 (Standard of Sources) sections 129.301 through 129.310 (Control of NOX Emissions from Glass Melting Furnaces). The new regulation applies to an owner or operator of a glass melting furnace that emits or has the potential to emit NOX at a rate greater than 50 tons per year in the Commonwealth of Pennsylvania, including the local air pollution control agencies in Philadelphia and Allegheny Counties. The new regulation consists of the following: (1) New definitions and terms; (2) exemptions that the emission requirements do not apply during periods of start-up, shutdown or idling, if the owner or operator complies with the start-up, shutdown and idling requirements; (3) emission requirements which provide the owner or operator of a glass melting furnace to determine allowable NOX emissions by multiplying the tons of glass pulled by each furnace; (4) start-up requirements where the start-up exemption identifies the control technologies or strategies to be used to minimize emissions; (5) shutdown requirements where the duration as measured from the time the furnace operation drops below 25 percent of the permitted production capacity or fuel use capacity to when all emissions from the furnace cease, will not exceed 20 days; (6) idling requirements that provide the owner or operator operate the emission control system whenever technologically feasible during idling to minimize emissions; (7) compliance determination by installing, operating and maintaining continuous emissions monitoring systems (CEMS); (8) compliance demonstration on a furnace-by-furnace basis, facility-wide emissions averaging basis, or a system-wide emissions averaging basis among glass melting furnaces; and (9) reporting and recordkeeping requirements where the owner or operator calculates and reports the CEMS data and glass production data used to show compliance with the allowable NOX emissions limitations on a quarterly basis no later than 30 days after the end of the quarter.

Other specific requirements for the control of NOX emissions from glass melting furnaces and the rationale for EPA's proposed action are explained in the NPR and will not be restated here. No public comments were received on the NPR.

III. Final Action

EPA is approving 25 Pa. Code Chapter 121.1, relating to definitions used in the substantive provision of this SIP revision and the new regulation pertaining to the NOX standards in 25 Pa. Code Chapter 129 (Standards for Sources)—Control of NOX Emissions from Glass Melting Furnaces (sections 129.301 through 129.310) as revisions to the Pennsylvania SIP.

IV. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the state, and EPA notes that it will not impose substantial direct costs on Tribal governments or preempt Tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by October 21, 2011. Filing a petition for reconsideration by the Administrator of this final rule does not affect the finality of this action for the purposes of judicial review nor does it extend the time within which a petition for judicial review may be filed, and shall not postpone the effectiveness of such rule or action.

This action, pertaining to Pennsylvania's control of NOX emissions from glass melting furnaces may not be challenged later in proceedings to enforce its requirements. (See section 307(b)(2).)

List of Subjects in 40 CFR Part 52

Environmental protection, Air pollution control, Incorporation by reference, Nitrogen dioxide, Ozone, Particulate matter, Reporting and recordkeeping requirements.

Dated: August 8, 2011.
W.C. Early,
Acting, Regional Administrator, Region III.

40 CFR part 52 is amended as follows:

PART 52—[AMENDED]

1. The authority citation for part 52 continues to read as follows:

Authority: 42 U.S.C. 7401 et seq.

Subpart NN—Pennsylvania

2. In § 52.2020, the table in paragraph (c)(1) is amended by:

a. Revising the entry for Section 121.1.

b. Adding entries for Sections 129.301 through 129.310.

The amendments read as follows:

§ 52.2020 Identification of plan.

* * * * *

(c) * * *

(1) * * *

State citation | Title/subject | State effective date | EPA approval date | Additional explanation/§ 52.2063 citation
Title 25—Environmental Protection
Article III—Air Resources
Chapter 121—General Provisions
Section 121.1 | Definitions | 12/18/10 | 8/22/11 [Insert page number where the document begins] | Added new definitions and terms. The State effective date is 6/19/10.
* * * * * * *
Chapter 129—Standard for Sources
* * * * * * *
Additional NOX Requirements
* * * * * * *
Control of NOX Emissions From Glass Melting Furnaces
Section 129.301 | Purpose | 6/19/10 | 8/22/11 [Insert page number where the document begins] | New section
Section 129.302 | Applicability | 6/19/10 | 8/22/11 [Insert page number where the document begins] | New section
Section 129.303 | Exemptions | 6/19/10 | 8/22/11 [Insert page number where the document begins] | New section
Section 129.304 | Emission requirements | 6/19/10 | 8/22/11 [Insert page number where the document begins] | New section
Section 129.305 | Start-up requirements | 6/19/10 | 8/22/11 [Insert page number where the document begins] | New section
Section 129.306 | Shutdown requirements | 6/19/10 | 8/22/11 [Insert page number where the document begins] | New section
Section 129.307 | Idling requirements | 6/19/10 | 8/22/11 [Insert page number where the document begins] | New section
Section 129.308 | Compliance determination | 6/19/10 | 8/22/11 [Insert page number where the document begins] | New section
Section 129.309 | Compliance demonstration | 6/19/10 | 8/22/11 [Insert page number where the document begins] | New section
Section 129.310 | Recordkeeping | 6/19/10 | 8/22/11 [Insert page number where the document begins] | New section
* * * * * * *

* * * * *

[FR Doc. 2011-21262 Filed 8-19-11; 8:45 am]

BILLING CODE 6560-50-P